DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE023308-0

Applicant: U.S. Fish and Wildlife Service, Twin Cities Field Office, Bloomington, Minnesota (Russ Peterson, Field Supervisor)

The applicant requests a permit to take (collect, hold in captivity, propagate, and release) endangered Higgins' eye pearlymussels (Lampsilis higginsi) from locations within their historic range in the States of Iowa, Minnesota, and Wisconsin (St. Croix River, Upper Mississippi River, Chippewa River, and Wisconsin River). The applicant proposes to propagate captive mussels at: (1) The U.S. Fish and Wildlife Service's Genoa National Fish Hatchery; (2) a temporary facility at the Upper Mississippi River, Pools 1-4 (River Mile 853-787); (3) a temporary facility at the lower Chippewa River (RM 0-15); and (4) a temporary facility at the lower Wisconsin River (RM 0-15). The applicant proposes to subsequently relocate host fish infected with glochidia (resulting from propagation) to a temporary facility in the lower Bad Axe River adjacent to the Genoa NFH. Artificially propagated and temporarily held specimens will be reintroduced into the wild at the Upper Mississippi River, Lower Chippewa River, and lower Wisconsin River. The Field Supervisor, Twin Cities Field Office, proposes to serve as project manager including, but not limited to, designation of individuals who meet issuance criteria to work under this permit. This permit is proposed for the enhancement of survival of the species in the wild (protection from zebra mussel (Dreissena polymorpha) infestation, in the interest of recovery.)

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612/713-5350); FAX: (612/713-5292).

Dated: February 24, 2000.
Stanley L. Smith,
Acting Assistant Regional Director, Ecological Services, Region 3, Fort Snelling, Minnesota.

[FR Doc. 00-4928 Filed 2-29-00; 8:45 am]

BILLING CODE 4310-55-M